DEPARTMENT OF STATE

[Public Notice 6089]

Termination of Statutory Debarment Pursuant to Section 38(g)(4) of the Arms Export Control Act for Peter Appelbaum

ACTION: Notice.

SUMMARY: Notice is hereby given that the Department of State has terminated the statutory debarment against Peter Appelbaum pursuant to section 38(g)(4) of the Arms Export Control Act (AECA) (22 U.S.C. 2778).

DATES: Effective Date: January 24, 2008.

FOR FURTHER INFORMATION CONTACT: David C. Trimble, Director, Office of Defense Trade Controls Compliance, Directorate of Defense Trade Controls, Bureau of Political-Military Affairs, Department of State (202) 663-2807.

SUPPLEMENTARY INFORMATION: Section 38(g)(4) of the AECA and section 127.11 of the International Traffic in Arms Regulations (ITAR) prohibit the issuance of export licenses or other approvals to a person, or any party to the export, who has been convicted of violating the AECA and certain other U.S. criminal statutes enumerated at section 38(g)(1)(A) of the AECA and section 120.27 of the ITAR. A person convicted of violating the AECA is also subject to statutory debarment under section 127.7 of the ITAR.

In October 1999, Peter Appelbaum was convicted of violating the AECA (U.S. District Court, Southern District of Florida, 1:99CR00530-001). Based on this conviction, Peter Appelbaum was statutorily debarred pursuant to section 38(g)(4) of the AECA and section 127.7 of the ITAR and, thus, prohibited from participating directly or indirectly in exports of defense articles and defense services. Notice of debarment was published in the Federal Register (68 FR 52436, September 3, 2003).

Section 38(g)(4) of the AECA permits termination of debarment after consultation with the other appropriate U.S. agencies and after a thorough review of the circumstances surrounding the conviction and a finding that appropriate steps have been taken to mitigate any law enforcement concerns. The Department of State has determined that Peter Appelbaum has taken appropriate steps to address the causes of the violations and to mitigate any law enforcement concerns. Therefore, in accordance with section 38(g)(4) of the AECA, the debarment against Peter Appelbaum is rescinded, effective January 24, 2008.

Dated: January 24, 2008.
Stephen D. Mull,
Acting Assistant Secretary of State for Political-Military Affairs, Department of State.

[FR Doc. E8-1948 Filed 2-1-08; 8:45 am]

BILLING CODE 4710-25-P